FEDERAL COMMUNICATIONS COMMISSION

[Report No. 2417]

Petitions for Reconsideration and Clarification of Action in Rulemaking Proceedings

June 15, 2000.

Petitions for Reconsideration and Clarification have been filed in the Commission's rulemaking proceedings listed in this Public Notice and published pursuant to 47 CFR Section 1.429(e). The full text of this document is available for viewing and copying in Room CY-A257, 445 12th Street, S.W., Washington, DC or may be purchased from the Commission's copy contractor, ITS, Inc. (202) 857-3800. Oppositions to these petitions must be filed by July 7, 2000. See Section 1.4(b)(1) of the Commission's rules (47 CFR 1.4(b)(1)). Replies to an opposition must be filed within 10 days after the time for filing oppositions has expired.

Subject: Amendment of the Commission's Rules Regarding Multiple Address Systems (WT Docket No. 97-81).

Number of Petitions Filed: 3.

Subject: 1998 Biennial Regulatory Review—Review of Depreciation Requirements for Incumbent Local Exchange Carriers (CC Docket No. 98-137).

Number of Petitions File: 1.

Subject: Local Compensation and Broadband Reporting (CC Docket No. 99-301).

Number of Petitions Filed: 1.

Federal Communications Commission.
Magalie Roman Salas,
Secretary.

[FR Doc. 00-15705 Filed 6-21-00; 8:45 am]

BILLING CODE 6712-01-M